DEPARTMENT OF COMMERCE

National Oceanic and Atmospheric Administration

[I.D. 013006H]

Availability of Two Reports: Treated Wood in Aquatic Environments: Technical Review and Use Recommendations; and Creosote-Treated Wood in Aquatic Environments: Technical Review and Use Recommendations

AGENCY: National Marine Fisheries Service (NMFS), National Oceanic and Atmospheric Administration (NOAA), Commerce.

ACTION: Notice of availability; request for comments.

SUMMARY: NMFS is providing this notice in order to allow Federal and state agencies and the public an opportunity to review and provide comments on two reports, prepared for NMFS by an independent consulting firm, regarding the use of treated wood products in aquatic environments. The intent of the reports is to ensure NMFS is informed of relevant studies and recommendations when making decisions related to the use of treated wood in aquatic environments. This information may be used for future development or revision of NMFS treated wood-use guidelines. NMFS is soliciting public comment on whether the treated wood documents sufficiently summarize the existing body of knowledge concerning copper and creosote treated wood products, including the fate and transport of leached materials, the appropriate use of treated wood products, and the potential effects on living marine resources and their habitats. In addition to this public comment opportunity, the reports will also be subject to independent peer review.

DATES: Public comments must be received by 5 p.m., Pacific standard time May 2, 2006.

ADDRESSES: Comments on these reports may be submitted by mail to the National Marine Fisheries Service, 777 Sonoma Avenue, Suite 325, Santa Rosa, CA 95409, Attn: Water Quality Coordinator/Treated Wood Comments. Comments concerning the Treated Wood in Aquatic Environments report may be sent via facsimile to (301) 427-2538. Comments concerning the Creosote-Treated Wood in Aquatic Environments report may be sent via facsimile to (301) 427-2540. Comments may also be submitted electronically. For comments regarding the Treated Wood in Aquatic Environments report, please e-mail your comments to SWR.CopperWood@noaa.gov. For comments regarding the Creosote-Treated Wood in Aquatic Environments report, please e-mail your comments to SWR.CreosoteWood@noaa.gov.The reports are available at http://swr.nmfs.noaa.gov/ or may be requested by calling or emailing the contact person listed below. Please include appropriate contact information when requesting the documents.

FOR FURTHER INFORMATION CONTACT: Joseph Dillon, Southwest Region Water Quality Coordinator at 707-575-6093 or by email, Joseph.J.Dillon@noaa.gov.

SUPPLEMENTARY INFORMATION: The purpose of the technical review documents is to present a summary of existing literature, prepared independently by Stratus Consulting, Inc. for NMFS, that analyzes the potential effects and mitigations for the use of treated wood products in aquatic environments. The documents focus on copper treated wood, primarily ammoniacal copper zinc arsenate (ACZA), as this is the most prominent material used on the west coast of the United States and in Alaska, and creosote treated products.

These products are being examined by NMFS to determine the risks generated by their usage to the living marine resources that NMFS is responsible for managing. These include anadromous salmonids managed by NMFS under the Endangered Species Act (ESA), as well as other marine fishery resources including Essential Fish Habitat (EFH) as identified and described under Federal fishery management plans pursuant to Magnuson-Stevens Fishery Conservation and Management Act (Magnuson-Stevens Act). The use of treated wood in or near aquatic environments commonly requires a permit issued by the U.S. Army Corps of Engineers pursuant to the Clean Water Act and the Rivers and Harbors Act of 1899. Under the ESA, Federal agencies must consult with NMFS pursuant to section 7 of the statute to ensure that any action authorized, funded or carried out by the Federal agency does not jeopardize the continued existence of any threatened or endangered species or result in the destruction or adverse modification of designated critical habitat. Federal action agencies are also required by the Magnuson-Stevens Act to consult with NMFS on any action that may adversely affect EFH. In issuing this permit, the U.S. Army Corps of Engineers will have to conduct an EFH assessment pursuant to 60 CFR 600.920(e) to determine whether the proposed permitted action will adversely affect EFH.

Effects of treated wood that need to be examined under the ESA and Magnuson-Stevens Act regulations include direct, indirect, and cumulative effects. An example of direct effects includes the acute and sublethal impacts of copper and polycyclic aromatic hydrocarbons to salmonids and the EFH of managed species. An example of an indirect effect includes the adverse impacts to the prey base upon which ESA listed and EFH managed species depend. An example of a cumulative effect includes the impacts of multiple structures and contaminants in an area with or without additional loading from urban sources, historic mining, smelters, ships' hulls or any other source. The synthesis of these effects to habitat and to individuals, coupled with local environmental conditions and specific species of concern, defines the risk of a project proposing the use of treated wood.

Since the use of treated wood materials in situations that may expose aquatic ecosystems is widespread along the west coast of the United States and in Alaska, development of guidelines from the information presented in these reports should help to streamline the review of permitting processes as well as the permitting processes themselves. These reports may be used in the future to create new or update existing NMFS policies regarding treated wood.

Dated: February 27, 2006.
James W. Balsiger,
Deputy Assistant Administrator for Regulatory Programs,National Marine Fisheries Service.

[FR Doc. E6-3048 Filed 3-2-06; 8:45 am]

BILLING CODE 3510-22-S